DEPARTMENT OF DEFENSE

Notice of Advisory Committee Closed Meeting; U.S. Strategic Command Strategic Advisory Group; Correction

AGENCY: Department of Defense.

ACTION: Notice of Advisory Committee closed meeting; date correction.

SUMMARY: On August 23, 2011 (76 FR 52642), the United States Strategic Command Strategic Advisory Group gave notice of a meeting to be held on November 1, 2011, from 8 a.m. to 5 p.m. Central Daylight Time and November 2, 2011, from 8 a.m. to 11:30 a.m. Central Daylight Time at the Dougherty Conference Center, Building 432, 906 SAC Boulevard, Offutt Air Force Base (AFB), Nebraska 68113. Pursuant to Section 10(a), Public Law 92-463, as amended, notice is hereby given that this meeting has been rescheduled.

The new dates are: December 12, 2011 from 8 a.m. to 5 p.m. Central Standard Time and December 13, 2011 from 8 a.m. to 11:30 a.m. Central Standard Time at the Dougherty Conference Center, Building 432, 906 SAC Boulevard, Offutt AFB, Nebraska.

FOR FURTHER INFORMATION CONTACT: Mr. Bruce Sudduth, Designated Federal Officer, (402) 294-4102, 901 SAC Boulevard, Suite 1F7, Offutt AFB, NE 68113-6030.

Dated: September 27, 2011.
Aaron Siegel,
Alternate OSD Federal Register Liaison Officer, Department of Defense.

[FR Doc. 2011-25264 Filed 9-29-11; 8:45 am]

BILLING CODE 5001-06-P